SECURITIES AND EXCHANGE COMMISSION

[Release No. 34-86067; File No. SR-NASDAQ-2019-017]

Self-Regulatory Organizations; The Nasdaq Stock Market LLC; Notice of Designation of Longer Period for Commission Action on a Proposed Rule Change To Adopt Additional Requirements for Listings in Connection With an Offering Under Regulation A of the Securities Act

June 7, 2019.

On April 5, 2019, The Nasdaq Stock Market LLC (“Nasdaq” or the “Exchange”) filed with the Securities and Exchange Commission (“Commission”), pursuant to Section 19(b)(1) of the Securities Exchange Act of 1934 (“Act”) ¹ and Rule 19b-4 thereunder,² a proposed rule change to adopt a new initial listing requirement for any company applying to list on the Exchange in connection with an offering under Regulation A ³ of the Securities Act of 1933.⁴ The proposed rule change was published for comment in the Federal Register on April 24, 2019.⁵ The Commission received one comment on the proposed rule change.⁶

¹ 15 U.S.C. 78s(b)(1).

² 17 CFR 240.19b-4.

³ 17 CFR 230.251-230.263.

⁴ 15 U.S.C. 77a et seq.

⁵ See Securities Exchange Act Release No. 85687 (April 18, 2019), 84 FR 17224 (April 24, 2019).

⁶ See Letter from Jeffrey P. Mahoney, General Counsel, Council of Institutional Investors, dated May 2, 2019, available at https://www.sec.gov/comments/sr-nasdaq-2019-017/srnasdaq2019017-5441017-184816.pdf.

Section 19(b)(2) of the Act ⁷ provides that, within 45 days of the publication of the notice of the filing of a proposed rule change, or within such longer period up to 90 days as the Commission may designate if it finds such longer period to be appropriate and publishes its reasons for so finding or as to which the self-regulatory organization consents, the Commission shall approve the proposed rule change, disapprove the proposed rule change, or institute proceedings to determine whether the proposed rule change should be disapproved. The 45th day after publication of the notice for this proposed rule change is June 8, 2019. The Commission is extending this 45-day time period.

⁷ 15 U.S.C. 78s(b)(2).

The Commission finds that it is appropriate to designate a longer period within which to take action on the proposed rule change so that it has sufficient time to consider the proposed rule change. Accordingly, the Commission, pursuant to Section 19(b)(2) of the Act,⁸ designates July 23, 2019, as the date by which the Commission should approve, disapprove, or institute proceedings to determine whether to disapprove the proposed rule change (File No. SR-NASDAQ-2019-017).

⁸ Id.

For the Commission, by the Division of Trading and Markets, pursuant to delegated authority.⁹
⁹ 17 CFR 200.30-3(a)(31).
Eduardo A. Aleman,
Deputy Secretary.

[FR Doc. 2019-12452 Filed 6-12-19; 8:45 am]

BILLING CODE 8011-01-P